DEPARTMENT OF TRANSPORTATION

Federal Aviation Administration

[Docket No. FAA-2021-1086]

Agency Information Collection Activities: Requests for Comments; Clearance of a Renewed Approval of Information Collection: Aviation Maintenance Technician Schools; Correction

AGENCY: Federal Aviation Administration (FAA), DOT.

ACTION: Notice; correction.

SUMMARY: The FAA published a document in the Federal Register of November 23, 2021, concerning request for comments about the FAA's intention to request the Office of Management and Budget (OMB) approval to renew an information collection, in accordance with the Paperwork Reduction Act of 1995. The document was published with an incorrect docket number.

FOR FURTHER INFORMATION CONTACT: Tanya Glines by email at: Tanya.glines@faa.gov; phone: 202-380-5896.

SUPPLEMENTARY INFORMATION:

Correction: In the Federal Register of November 23, 2021, FR Doc. 2021-25472, on page 66615, in the third column, correct the docket number to read:

[Docket No. FAA-2021-1086]

Issued in Washington, DC, on February 1, 2022.
Tanya A. Glines,
Aviation Safety Inspector, FAA Safety Standards, Aircraft Maintenance Division.

[FR Doc. 2022-02356 Filed 2-3-22; 8:45 am]

BILLING CODE 4910-13-P